DEPARTMENT OF COMMERCE

International Trade Administration

[A-475-829]

Stainless Steel Bar from Italy: Preliminary Rescission of Antidumping Duty Administrative Review

AGENCY: Import Administration, International Trade Administration, Department of Commerce.

SUMMARY: The Department of Commerce is conducting an administrative review of the antidumping duty order on stainless steel bar from Italy. The period of review is March 1, 2004, through February 28, 2005. This review covers imports of stainless steel bar from one producer/exporter, UGITECH, S.A.

We have preliminarily found that UGITECH, S.A. did not make shipments of the subject merchandise to the United States during the period of review and, therefore, we are preliminarily rescinding this antidumping duty administrative review. We invite interested parties to comment on these preliminary results. We will issue the final results not later than 120 days from the date of publication of this notice.

EFFECTIVE DATE: October 28, 2005.

FOR FURTHER INFORMATION CONTACT: Scott Holland, AD/CVD Operations, Office 1, Import Administration, International Trade Administration, U.S. Department of Commerce, 14th Street and Constitution Avenue, NW., Washington DC 20230; telephone (202) 482-1279.

SUPPLEMENTARY INFORMATION:

Background

On March 7, 2002, the Department of Commerce (“the Department”) published an antidumping duty order on stainless steel bar (“SSB”) from Italy. See Notice of Antidumping Duty Order: Stainless Steel Bar from Italy, 67 FR 10384 (March 7, 2002). On October 10, 2003, the Department published an amended antidumping duty order on SSB from Italy. See Notice of Amended Antidumping Duty Orders: Stainless Steel Bar from France, Germany, Italy, Korea, and the United Kingdom, 68 FR 58660 (October 10, 2003).

On March 1, 2005, the Department published in the Federal Register a notice of opportunity for interested parties to request an administrative review of the antidumping duty order on SSB from Italy. See Notice of Opportunity to Request Administrative Review of Antidumping or Countervailing Duty Order, Finding or Suspended Investigation, 70 FR 9918 (March 1, 2005). On March 31, 2005, Carpenter Technology Corp., Valbruna Slater Stainless, Inc., Electralloy Corp., a Division of G.O. Carlson, Inc. (collectively, “the petitioners”), requested an administrative review of imports of the subject merchandise produced by UGITECH, S.A. (“UGITECH”), an Italian exporter/producer of the subject merchandise.

In accordance with 19 CFR 351.221(b)(1), we published a notice of initiation of this antidumping duty administrative review on April 22, 2005. See Notice of Initiation of Antidumping and Countervailing Duty Administrative Reviews, 70 FR 20862 (April 22, 2005). The period of review (“POR”) is March 1, 2004, through February 28, 2005.

On April 22, 2005, the Department issued an antidumping duty questionnaire to UGITECH. On May 31, 2005, UGITECH informed the Department that it made no entries of subject merchandise during the POR and requested that the Department rescind the instant review with respect to UGITECH, in accordance with 19 CFR 351.213(d)(3). On June 30, 2005, the petitioners submitted comments on UGITECH's May 31, 2005, submission and requested that the Department investigate further UGITECH's rescission request. On August 16, 2005, UGITECH responded to the petitioners' comments. On September 14, 2005, the petitioners submitted additional comments.

Scope of the Order

For purposes of this order, the term “SSB” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The SSB subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of this order is dispositive.

Preliminary Rescission of Administrative Review

Pursuant to section 351.213(d)(3) of the Department's regulations, the Department may rescind an administrative review, in whole or in part, with respect to a particular exporter or producer, if the Department concludes that there were no entries, exports, or sales of the subject merchandise during the POR. See e.g., Stainless Steel Bar from Italy: Final Results of Antidumping Duty Administrative Review and Rescission of Review, 70 FR 46480 (March 10, 2005). On May 31, 2005, UGITECH claimed that it did not export subject merchandise to the United States during the instant POR. The Department conducted a U.S. Customs and Border Protection (“CBP”) inquiry. See Memorandum to the File, “U.S. Customs and Border Protection Data,” dated July 12, 2005. The result of the CBP inquiry confirmed UGITECH's claims that it made no entries of subject merchandise during the POR. Therefore, the Department is preliminarily rescinding this administrative review.

Public Comment

Any interested party may request a hearing within 30 days of publication of this notice. A hearing, if requested, will be held 37 days after the publication of this notice, or the first business day thereafter. Interested parties may submit case briefs within 30 days of the date of publication of this notice. Rebuttal briefs, which must be limited to issues raised in the case briefs, may be filed not later than 35 days after the date of publication of this notice. The Department will issue the final results of this administrative review, which will include the results of its analysis of issues raised in any such comments, within 120 days of publication of the preliminary results.

This administrative review and notice are in accordance with sections 751(a)(1) and 777(I)(1) of the Act.

Dated: October 21, 2005.
Joseph A. Spetrini,
Acting Assistant Secretary for Import Administration.

[FR Doc. E5-5984 Filed 05-27-05; 8:45 am]

BILLING CODE 3510-DS-S